DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Screening, Brief Intervention, Brief Treatment and Referral to Treatment (SBIRT) Cross-Site Evaluation—New

SAMHSA is conducting a cross-site external evaluation of the impact of programs of screening, brief intervention (BI), brief treatment (BT) and referral to treatment on patients presenting at various health care delivery units with a continuum of severity of substance use. SAMHSA's SBIRT program is a cooperative agreement grant program designed to help States and Tribal Councils expand the continuum of care available for substance misuse and use disorders. The program includes screening, brief intervention, brief treatment and referrals to treatment for persons at risk for dependence on alcohol or drugs. The cross-site evaluation will provide a comprehensive assessment of the effects of SBIRT on patient outcomes, performance site practices, and treatment systems. This information will allow SAMHSA to determine the extent to which SBIRT has met its objectives of implementing a comprehensive system of identification and care to meet the needs of individuals at all points along the substance use continuum.

A paper and pencil survey will be administered to practitioners in sites where SBIRT services are being delivered. The practitioner survey is designed to evaluate the implementation of proposed SBIRT models by measuring their penetration and practitioners' willingness to adopt. Furthermore, the survey will document moderating factors related to practitioner and health care delivery unit characteristics.

The 93 question practitioner survey includes collection of demographic information as well as questions that attempt to assess barriers to implementation encountered by the practitioners and to gauge the effectiveness of the training they received. These measures were developed and used by Babor et al. (2005) in their comparable study comparing different implementation strategies for primary care screening and brief intervention programs for hazardous and harmful drinkers. The practitioner survey also includes an instrument developed by Panzano and Roth (2006) to measures an organization's willingness to adopt new innovative practices.

Total Burden Hours for the Cross-Site Patient Survey
Instrument/Activity | Number of respondents | Responses per respondent | Hours per response | Total burden hours | Hourly wage | Total respondent cost ᵃ
Practitioner Survey | 1,075 | 1 | .30 | 322.5 | $32 | $10,320

Send comments to Summer King, SAMHSA Reports Clearance Officer, Room 7-1044, One Choke Cherry Road, Rockville, MD 20857. Written comments should be received within 60 days of this notice.

Dated: May 25, 2010.
Elaine Parry,
Director, Office of Program Services.

[FR Doc. 2010-13145 Filed 6-1-10; 8:45 am]

BILLING CODE 4162-20-P